DEPARTMENT OF THE INTERIOR

Bureau of Indian Affairs

[189A2100DD/AAKC001030/A0A501010.999900 253G]

Craig Tribal Association of Craig, Alaska's Alcohol Control Ordinance

AGENCY: Bureau of Indian Affairs, Interior.

ACTION: Notice.

SUMMARY: This notice publishes the liquor control ordinance of the Craig Tribal Association of Craig, Alaska. The liquor control ordinance regulates and controls the possession, sale, manufacture, and distribution of alcohol in conformity with the laws of the State of Alaska.

DATES: This Ordinance takes effect September 11, 2018.

FOR FURTHER INFORMATION CONTACT: Ms. Jolene John, Tribal Operations Officer, Alaska Regional Office, Bureau of Indian Affairs, 3601 C Street, Suite 1200, Anchorage, Alaska 99503, telephone: (907) 271-4043, fax: (907) 271-4083.

SUPPLEMENTARY INFORMATION: Pursuant to the Act of August 15, 1953, Public Law 82-277, 67 Stat. 5856, 18 U.S.C. 1161, as interpreted by the Supreme Court in Rice V. Rehner, 463 U.S. 713 (1983), the Secretary of the Interior shall certify and publish in the Federal Register notice of adopted liquor control ordinances for the purpose of regulating liquor transactions in Indian Country. The Craig Tribal Association of Craig, Alaska duly adopted the Craig Tribal Association of Craig, Alaska's Alcohol Control Ordinance on November 14, 2017, and subsequently amended it on March 21, 2018, April 18, 2018, and June 14, 2018.

This notice is published in accordance with the authority delegated by the Secretary of the Interior to the Assistant Secretary—Indian Affairs. I certify that the Craig Tribal Association of Craig, Alaska duly adopted by resolution the Craig Tribal Association of Craig, Alaska's Alcohol Control Ordinance enacted November 14, 2017, by Res. No. CTA 2017-43 and amended March 21, 2018, April 18, 2018, and June 14, 2018 by vote of the council to clarify language and to correct organizational errors.

Dated: August 22, 2018.
Tara Sweeney,
Assistant Secretary—Indian Affairs.

Craig Tribal Association of Craig, Alaska's Alcohol Control Ordinance

Article I. Introduction

Section 1.1. Title

This Ordinance shall be known as the “Craig Tribal Association of Craig, Alaska's Alcohol Control Ordinance.”

Section 1.2. Authority

This Ordinance is enacted in accordance with the inherent governmental powers of the Craig Tribal Association, a federally recognized tribe of Indians through its Constitution and Bylaws of the Craig Tribal Association of Craig, Alaska, and in conformance with the laws of the State of Alaska, as required by the Act of August 15, 1953, Public Law 83-177, 67 Stat. 586, 18 U.S.C. 1161.

Section 1.3. Purpose

The purpose of this Ordinance is to regulate and control the possession and sale of Alcohol on Tribal lands of the Craig Tribal Association. The enactment of this Ordinance will enhance the ability of the Craig Tribal Association to control all such alcohol ·related activities within the jurisdiction of the Tribe and will provide an important source of revenue for the continued operation and strengthening of the Craig Tribal Association and the delivery of important governmental services.

Section 1.4. Application of Federal Law

Federal Law prohibits the introduction, possession, and sale of liquor in Indian Country (18 U.S.C. 1154 and other statutes), except when in conformity both with the laws of the State and the Tribe (18 U.S.C. 1161).

Section 1.5. Administration of Ordinance

The Tribal Council, through its powers vested under the Constitution of the Craig Tribal Association and this Ordinance, delegates to the Tribal Council the authority to exercise all of the powers and accomplish all of the purposes as set forth in this Ordinance, which may include, but are not limited to, the following actions:

A. Adopt and enforce rules and regulations for the purpose of effectuating this Ordinance, which includes the setting of fees, fines and other penalties;

B. Execute all necessary documents; and

C. Perform all matters of actions incidental to and necessary to conduct its business and carry out its duties and functions under this Ordinance.

Section 1.6. Sovereign Immunity Preserved

A. The Tribe is immune from suit in any jurisdiction except to the extent that the Tribal Council of the Craig Tribal Association or the United States Congress expressly and unequivocally waives such immunity by approval of written tribal resolution or Federal statute.

B. Nothing in this Ordinance shall be construed as waiving the sovereign immunity of the Craig Tribal Association or the Tribal Council as an agency of the Craig Tribal Association.

Section 1. 7. Applicability

This Ordinance shall apply to all persons or entities operating or conducting activities involving the possession, sale or distribution of Alcohol on Tribal land of the Craig Tribal Association.

Section 1.8. Computation of Time

Unless otherwise provided in this Ordinance, in computing any period of time prescribed or allowed by this Ordinance, the day of the act, event, or default from which the designated period of time begins to run shall not be included. The last day of the period so computed shall be included, unless it is a Saturday, a Sunday, or a legal holiday. For the purposes of this Ordinance, the term “legal holiday” shall mean all legal holidays under Tribal or Federal law. All documents mailed shall be deemed served at the time of mailing.

Section 1.9. Liberal Construction

The provisions of this Ordinance shall be liberally construed to achieve the purposes set forth, whether clearly stated or apparent from the context of the language used herein.

Section 1.10. Collection of Applicable Fees, Taxes or Fines

The Tribal Council shall have the authority to collect all applicable and lawful fees, taxes, and or fines from any person or Licensee as imposed by this Ordinance. The failure of any Licensee to deliver applicable taxes collected on the sale of Alcoholic Beverages shall subject the Licensee to penalties, including, but not limited to the revocation of said License.

Article II. Declaration of Public Policy

Section 2.1. Matter of Special Interest

The possession, sale and consumption of Alcoholic Beverages within the jurisdiction of the Craig Tribal Association are matters of significant concern and special interest to the Tribe. The Tribal Council hereby declares that the policy of the Craig Tribal Association is to eliminate the problems associated with unlicensed, unregulated, and unlawful importation, distribution, possession, and sale of Alcoholic Beverages for commercial purposes and to promote temperance in the use and consumption of Alcoholic Beverages by increasing the Tribe's control over such activities on Tribal lands.

Section 2.2. Federal Law

The introduction of Alcohol within the jurisdiction of the Tribe is currently prohibited by federal law (18 U.S.C. 1154), except as provided for therein, and the Tribe is expressly delegated the right to determine, in conformance with applicable state law, when and under what conditions Alcohol, including Alcoholic Beverages, shall be permitted therein (18 U.S.C. 1161).

Section 2.3. Need for Regulation

The Tribe finds that the Federal Liquor Laws prohibiting the introduction, distribution, possession, sale, and consumption of Alcoholic Beverages within the Tribal lands should be addressed by laws of the Tribe, with all such business activities related thereto subject to the taxing and regulatory authority of the Tribal Council.

Section 2.4. Geographic Locations

The Tribe finds that the introduction, distribution, possession, sale, and consumption of Alcohol, including Alcoholic Beverages, shall be regulated under this Ordinance only where such activity will be conducted within or upon Tribal lands.

Section 2.5. Definitions

As used in this Ordinance, the following words shall have the following meanings unless the context clearly requires otherwise:

A. “Alcohol” means the product of distillation of fermented liquid, whether or not rectified or diluted with water, including, but not limited to Alcoholic Beverages as defined herein, but does not mean ethyl or industrial alcohol, diluted or not, that has been denatured or otherwise rendered unfit for purposes or consumption by humans.

B. “Alcoholic Beverage(s)” when used in this Ordinance means, and shall include any liquor, beer, spirits, or wine, by whatever name they may be called, and from whatever source and by whatever process they may have been produced, and which contain a sufficient percent of alcohol by volume which, by law, makes said beverage subject to regulation as an intoxicating beverage under the laws of the State of Alaska. Alcoholic Beverages include all forms of “low-point beer” as defined under the laws of the State of Alaska.

C. “Applicant” means any person or entity submitting an application to the Tribal Council for an Alcoholic Beverage License and who has not yet received such a License.

D. “Constitution” means the Constitution of the Craig Tribal Association.

E. “Tribal Council” means the duly elected legislative body of the Craig Tribal Association authorized to act in and on all matters and subjects upon which the Tribe is empowered to act, now or in the future.

F. “Federal Liquor Laws” means all laws of the United States of America, including, but not limited to 18 U.S.C. 1154 & 1161, that apply to or regulate in any way the introduction, distribution, possession, or sale of any form of Alcohol on Indian lands.

G. “Legal Age” means twenty-one (21) years of age.

H. “License” or “Alcoholic Beverage License” means a license issued by the Tribal Council authoring the introduction, or sale of Alcoholic Beverages for commercial purposes under the provisions of the Ordinance.

I. “Licensee” means a person or entity that holds an Alcohol Beverage License issued by the Tribal Council and includes any employee or agent of the License.

J. “Liquor Store” means any business, store, or commercial establishment at which Alcohol is sold and shall include any and all business engaged in the sale of Alcoholic Beverages, whether sold as packaged or by the drink.

K. “Alaska Liquor License” means any license or permit issued by the State of Alaska, including any agency, subdivision, or borough thereof, regulating any form of Alcohol, including, but not limited to any form of Alcoholic Beverage.

L. “Ordinance” means this Craig Tribal Association Alcohol Control Ordinance, as hereafter amended.

M. The words “package” or “packaged” means the sale of any Alcoholic Beverage by delivery of same by a seller to a purchaser in any container, bag, or receptacle for consumption beyond the premises or location designated on the seller's License.

N. The words “sale(s)”, “sell”, or “sold” means the exchange, barter, traffic, furnishing, or giving away of any Alcoholic Beverage by any and all means, by whatever name commonly used to describe the same, by any entity or person to another person.

O. “Tribal Council” shall mean the Craig Tribal Association Council and will include its duly authorized delegees.

P. “Tribal lands” shall mean and reference the geographic area that includes all land included within the definition of “Indian Country” as established and described by federal law and that is under the jurisdiction of the Craig Tribal Association, including, but not limited to all lands held in trust by the federal government, located within the same, as are now in existence or may hereafter be added to.

Q. “Tribal law” means the Constitution of the Craig Tribal Association, and all laws, ordinances, codes, resolutions, and regulations now and hereafter duly enacted by the Tribe.

R. “Tribe” shall mean the Craig Tribal Association.

Article III. Sales of Alcoholic Beverages

Section 3.1. Prohibition of the Unlicensed Sale of Alcoholic Beverages

This Ordinance prohibits the introduction, distribution, or sale of Alcoholic Beverages, other than where conducted by a Licensee in possession of a lawfully issued License in accordance with this Ordinance. The Federal Liquor Laws are intended to remain applicable to any act or transaction that is not authorized by this Ordinance, and violators shall be subject to all penalties and provisions of any and all applicable Federal, Tribal and State laws.

Section 3.2. License Required

A. Any and all sales of Alcoholic Beverages conducted upon Tribal lands must be Licensed and the Licensee must: (i) Hold a current Alcoholic Beverage License, duly issued by the Tribal Council; and (ii) prominently and conspicuously display the License on the premises or location designated on the license.

B. A Licensee has the right to engage only in those activities involving Alcoholic Beverages expressly authorized by such License in accordance with this Ordinance.

Section 3.3. Sales for Cash

All sales of Alcoholic Beverages conducted by any person or entity upon Tribal lands shall be conducted on a cash-only basis, and no “account for credit with Licensee” for said purchase and consumption of same shall be extended to any person, organization, or entity, except that this provision does not prohibit the payment of same by use of credit cards acceptable to the seller (including but not limited to VISA, MasterCard or American Express).

Section 3.4. Personal Consumption

All sales of Alcoholic Beverages shall be for the personal use and consumption of the purchaser and his/her guest(s) of Legal Age. The re-sale by any entity not licensed as required by this Ordinance is prohibited.

Section 3.5. Tribal Enterprise

No employee or operator of an entity owned by the Tribe shall sell or permit any person to open or consume any Alcoholic Beverage on any premises or location, or any premises adjacent thereto, under his or her control, unless such activity is properly licensed as provided in this Ordinance.

Article IV. Licensing

Section 4.1. Eligibility

Only Applicants operating upon Tribal lands shall be eligible to receive a License for the sale of any Alcoholic Beverage under this Ordinance.

Section 4.2. Application Process

A. The Tribal Council may cause a License to be issued to any Applicant as it may deem appropriate, but not contrary to the best interests of the Tribe and its Tribal members. Any applicant that desires to receive any Alcohol Beverage License, and that meets the eligibility requirements pursuant to this Ordinance, must apply to the Tribal Council for the desired class of License. Applicants shall (i) Fully and accurately complete the application provided by the Tribal Council; (ii) pay the Tribal Council such application fee as may be required; and (iii) submit such application to the Tribal Council for consideration.

B. All application fees paid to the Tribal Council are nonrefundable upon submission of any such application. Each application shall require the payment of a separate application fee. The Tribal Council may waive fees at its discretion.

Section 4.3. Term and Renewal of Licenses

A. With the exception of a Temporary License, the term of all Licenses issued under this Ordinance shall be for a period not to exceed two (2) years from the original date of issuance and may be renewed thereafter on a year-to-year basis, in compliance with this Ordinance and any rules and regulations hereafter adopted by the Tribal Council.

B. Each License may be considered for renewal by the Tribal Council annually upon the Licensee's submission of a new application and payment of all required fees. Such renewal application shall be submitted to the Tribal Council at least sixty (60) days and no more than ninety (90) days prior to the expiration of an existing License. If a License is not renewed prior to its expiration, the Licensee shall cease and desist all activity as permitted under the License, including the sale of any Alcoholic Beverages, until the renewal of such License is properly approved by the Tribal Council.

Section 4.4. Classes of Licenses

The Tribal Council shall have the authority to issue the following classes of Alcoholic Beverage License:

A. “Retail On-Site Beer and Wine License” authorizing the Licensee to sell only beer and wine at retail at the location designated in the License.

B. “Temporary or Provisional License” authorizing the sale of Alcoholic Beverages on a temporary basis for premises or at a location temporarily occupied by the Licensee for a picnic, social gathering, or similar occasion, as allowed by Federal and State law. A Temporary or Provisional License may not be renewed upon expiration. A new application must be submitted for each such License.

Section 4.5. Application Form and Content

An application for any License shall be made to the Tribal Council and shall contain at least the following information:

A. The name and address of the Applicant, including the names and addresses of the principal officers, directors, managers and other employees with primary management responsibility related to the sale of Alcoholic Beverages;

B. The specific area, location and or premise(s) for which the License is applied;

C. The hours that the Applicant will sell the Alcoholic Beverages;

D. For Temporary Licenses, the dates for which the License is sought to be in affect;

E. The class of Alcoholic Beverage License applied for, as set forth in Section 4.4 herein;

F. Whether the Applicant has an Alaska Liquor License; a copy of such License, and any other applicable license, shall be submitted to and retained by the Tribal Council;

G. A sworn statement by the Applicant to the effect that none of the Applicant's officers, directors, managers, and or employees with primary management responsibility related to the sale of Alcoholic Beverages, have ever been convicted of a felony under the law of any jurisdiction, and have not violated and will not violate or cause or permit to be violated any of the provisions of this Ordinance; and

H. The application shall be signed and verified by the Applicant under oath and notarized by a duly authorized representative.

Section 4.6. Action on the Application

The Tribal Council shall have the authority to deny or approve the application, consistent with this Ordinance and the laws of the Tribe. Upon approval of an application, the Tribal Council shall issue a License to the Applicant in a form to be approved from time to time by the Tribal Council. The Tribal Council shall have the authority to issue a temporary or provisional license pending the foregoing approval process.

Section 4.7. Denial of License or Renewal

An application for a new License or License Renewal may be denied for one or more of the following reasons:

A. The Applicant materially misrepresented facts outlined contained in the application;

B. The Applicant is currently not in compliance with this Ordinance or any other Tribal or Federal laws;

C. Granting of the License, or renewal thereof, would create a threat to the peace, safety, morals, health or welfare of the Tribe;

D. The Applicant has failed to complete the application properly or has failed to tender the appropriate fee.

E. A verdict or judgment has been entered against or a plea of nolo contendere has been entered by an Applicant's officer, director, manager, or any other employee with primary management responsibility related to the sale of Alcoholic Beverages, to any offense under Tribal, Federal, or State laws prohibiting or regulating the sale, use, possession, or giving away of Alcoholic Beverages. No person who has been convicted of a felony shall be eligible to hold license.

Section 4.8. Temporary Denial

If the application is denied solely on the basis of Section 4.7(D), the Tribal Council shall, within fourteen (14) days of such action, deliver in person or by mail a written notice of temporary denial to the Applicant. Such notice of temporary denial shall: (i) Set forth the reason(s) for denial; and (ii) state that the temporary denial will become a permanent denial if the reason(s) for the denial or not corrected within fifteen (15) days following the mailing or personal delivery of such notice.

Section 4.9. Cure

If an applicant is denied a License for any reason stated in Section 4. 7 “Denial of License or Renewal”, the Applicant may cure the deficiency and resubmit the application for consideration. Each re-submission will be treated as a new application for License or renewal of License, and the appropriate fee shall be due upon re-submission.

Section 4.10. Investigation

Upon receipt of an application for the issuance, or renewal of a License, the Tribal Council shall make a thorough investigation to determine whether the Applicant and the premises or location for which a License is applied for qualifies for a License, and whether the provisions of this Ordinance have been complied with. The Tribal Council shall investigate all matters connected herewith which may affect the public health, welfare and morals of the Tribe, community, etc.

Section 4.11. Procedures for Appealing a Denial or Condition of Application

Any Applicant for a License or Licensee who believes the denial of their License or request for renewal of their License is wrongfully determined in accordance with the Rules, Regulations and Enforcement of this Ordinance which are outlined in Article VI, Sections 6.1 through 6.11, may appeal the decision of the Tribal Council.

Section 4.12. Revocation of License

The Tribal Council may initiate action to revoke a License whenever it is brought to the attention of the Tribal Council that a Licensee:

A. Has materially misrepresented facts contained in any License application;

B. Is not in compliance with this Ordinance or any other Tribal, State or Federal laws material to the issue of Alcohol licensing;

C. Failed to comply with any condition of a License, including failure to pay taxes on the sale of Alcoholic Beverages or failure to pay any fee required under this Ordinance;

D. Has a verdict, or judgement entered against, or has a plea of nolo contendere entered by any of its officers, directors, managers or any employees with primary responsibility over the sale of Alcoholic Beverages, as to any offense under Tribal, Federal or State laws prohibiting or regulating the sale, use, or possession, of Alcoholic Beverages or a felony of any kind.

E. Failed to take reasonable steps to correct objectionable conditions constituting a nuisance on the premises or location designated in the License, or any adjacent area under their control, within a reasonable time after receipt of a notice to make such corrections has been mailed or personally delivered by the Tribal Council; or

F. Has had an Alaska Liquor License suspended or revoked.

Section 4.13. Initiation of Revocation Proceedings

Revocation proceedings may be initiated by either: (i) The Tribal Council, on its own motion and through the adoption of an appropriate resolution meeting the requirements of this section; or (ii) by any person who files a complaint with the Tribal Council. The complaint shall be in writing and signed by the maker. Both the complaint and resolution shall state facts showing that there are specific grounds under this Ordinance which would authorize the Tribal Council to revoke the License(s).

Section 4.14. Revocation Hearing

If a Complaint is made stating facts which specify grounds to revoke a License under this Ordinance, a hearing held on this complaint shall be held under such rules and regulations as the Tribal Council may prescribe. Both the Licensee and the person filing the complaint shall have the right to present witnesses to testify and to present written documents in support of their positions to the Tribal Council. The Tribal Council shall render its decision within sixty (60) days after the date of the hearing. The decision of the Tribal Council shall be final.

Section 4.15. Delivery of License

Upon revocation of a License, the Licensee shall forthwith deliver their License to the Tribal Council.

Section 4.16. Transferability of Licenses

Alcoholic Beverage Licenses shall be issued to a specific Licensee for use at a single premises or specific location and shall not be transferable for use by any other premises or location.

Section 4.17. Posting of License

Every Licensee shall post and keep posted its License(s) in a prominent and conspicuous place(s) on the premises or location designated in the License. Any License posted on a premises or location not designated in such License shall not be considered valid and shall constitute a separate violation of this Ordinance.

Article V. Powers of Enforcement

Section 5.1. Tribal Council

In furtherance of this Ordinance, the Tribal Council shall have exclusive authority to administer and implement this Ordinance and shall have the following powers and duties hereunder:

A. To adopt and enforce rules and regulations governing the sale, distribution, and possession of Alcoholic Beverages within the Tribal lands of the Craig Tribal Association;

B. To employ such persons as may be reasonably necessary to perform all administrative and regulatory responsibilities of the Tribal Council hereunder. All such employees shall be employees of the Tribe;

C. To issue Licenses permitting the sale, distribution, and possession of Alcoholic Beverages within the Tribal lands;

D. To give reasonable notice and to hold hearings on violations of this Ordinance;

E. To deny applications and renewals for Licenses and revoke issued Licenses as provided in this Ordinance;

F. To bring such other actions as may be required by applicable Tribal or Federal law or regulation; and

G. To collect taxes, fees, and penalties as may be required, imposed, or allowed by applicable Tribal or Federal law or regulation, and to keep accurate books, records, and accounts of the same.

Section 5.2. Right of Inspection

Any premises or location of any person or entity licensed to, distribute, or sell Alcoholic Beverages pursuant to this Ordinance shall be open for inspection by the Tribal Council for the purpose of ensuring the compliance or noncompliance of the License with all provisions of this Ordinance and any applicable Tribal laws or regulations.

Section 5.3. Limitation of Powers

In the exercise of its powers and duties under this Ordinance, agents, employees, or any other affiliated persons of the Tribal Council shall not, whether individually or as a whole accept any gratuity, compensation, or other thing of value from any Alcoholic Beverage wholesaler, retailer, or distributor, or from any Applicant or Licensee.

Article VI. Rules, Regulations, and Enforcement

Section 6.1. Sale or Distribution on Tribal Lands Without a License

Any person or entity who sells or offers for sale or distribution any Alcoholic Beverage in violation of this Ordinance, or who operates any business on Tribal lands that has Alcoholic Beverages for sale or in their possession without a proper License properly posted as required in Section 4.17, shall be in violation of this Ordinance.

Section 6.2. Unlawful Purchase

Any person who purchases any Alcoholic Beverage on Tribal lands from a person or entity that does not have a License to sell Alcoholic Beverages properly posted shall be in violation of this Ordinance.

Section 6.3. Intent To Sell

Any persons who keeps or possesses, or causes another to keep or possess, upon his person or on premises within his control, any Alcoholic Beverage, with the intent to sell or to distribute the same contrary to the provisions of this Ordinance shall be in violation of this Ordinance.

Section 6.4. Sale to Intoxicated Person

Any person who knowingly sells an Alcoholic Beverage to a person who is visibly intoxicated shall be in violation of this Ordinance and shall be subject to the penalties of a court with jurisdictional authority.

Section 6.5. Age of Consumption

No person under the age of twenty-one (21) years may possess, purchase or consume any Alcoholic Beverage on Tribal lands, and any such possession or consumption shall be in violation of this Ordinance and shall be subject to the penalties of a court with jurisdictional authority.

Section 6.6. Serving Underage Person

No person shall sell, or serve any Alcoholic Beverage to a person under the age of twenty-one (21) years, or permit any such person to possess or consume any Alcoholic Beverage on the premises or on any premises under their control. Any Licensee violating this section shall be guilty of a separate violation of this Ordinance for each and every Alcoholic Beverage sold or served and or consumed by such an underage person.

Section 6.7. False Identification

Any person who purchases or who attempts to purchase any Alcoholic Beverage through the use of false, or altered identification that falsely purports to show such person to be over the age of twenty-one (21) years shall be in violation of this Ordinance.

Section 6.8. Documentation of Age

Any seller or server of any Alcoholic Beverage shall be required to request proper and satisfactory documentation of age of any person who appears to be thirty (30) years of age or younger. When requested by a seller or server of Alcoholic Beverages, every person shall be required to present proper and satisfactory documentation of the bearer's age, signature, and photograph prior to the purchase or delivery of any Alcoholic Beverage. For purposes of this Ordinance, proper and satisfactory documentation shall include one or more of the following:

A. A Driver's License or personal identification card issued by any state department of motor vehicles;

B. United States active duty military credentials;

C. Passport.

Any seller, server, or person attempting to purchase Alcoholic Beverages who does not comply with the requirements of this section shall be in violation of this Ordinance and subject to penalties, as determined by the court with jurisdictional authority.

Section 6.9. General Penalties

A. Any person or entity determined by the Tribal Council to be in violation of this Ordinance, including any unlawful regulation promulgated pursuant thereto, shall be subject to a civil penalty of not more than Five Hundred Dollars ($500.00) for each such violation, except as provided herein. The Tribal Council may adopt by resolution a separate written schedule for fines for each type of violation, taking into account the seriousness and threat the violation may pose to the general public health and welfare. Such schedule may also provide, in the case of repeated violations, for imposition of monetary penalties greater than Five Hundred Dollars ($500.00) per violation limitation set forth above. The civil penalties provided herein shall be in addition to any criminal penalties that may be imposed under any other Tribal, Federal, or State laws.

B. Any person or entity determined by the Tribal Council to be in violation of this Ordinance, including any lawful regulation promulgated pursuant thereto, may be subject to ejection or exclusion from Tribal land or any Tribal facility.

Section 6.10. Initiation of Action

Any violation of this Ordinance shall constitute a public nuisance. The Tribal Council may initiate and maintain in a court with jurisdictional authority, an action to abate and permanently enjoin any nuisance declared under this Ordinance. Any action taken under the section shall be in addition to any other civil penalties provided for in this Ordinance.

Section 6.11. Contraband; Seizure; Forfeiture

All Alcoholic Beverages held, owned, or possessed within Tribal lands by any person, entity, or Licensee operating in violation of this Ordinance are hereby declared to be contraband and subject to seizure and forfeiture to the Tribe.

A. Seizure of contraband as defined in this Ordinance shall be done by the Tribal Council, with the assistance of law enforcement upon request; and all such contraband seized shall be inventoried and maintained by the Tribal Council, the governing body of the tribe that will serve as an Administrative Court for these proceedings, pending a final order of the Tribal Council. The owner of the contraband seized may alternatively request that the contraband seized be sold and the proceeds received there from be maintained by law enforcement pending a final order of the Tribal Council. The proceeds from such a sale are subject to forfeiture in lieu of the seized contraband.

B. Within ten (10) days following the seizure of such contraband, a hearing shall be held by the Tribal Council, at which time the operator or owner of the contraband shall be given an opportunity to present evidence in defense of his or her activities.

C. Notice of the hearing of at least ten (10) days shall be given to the person from whom the property was seized and the owner, if known. If the owner is unknown, notice of the hearing shall be posted at the place where the contraband was seized and at the other public places on Tribal lands. The notice shall describe the property seized, and the time, place, and cause of the seizure, and list the name and place of residence, if known, of the person from whom the property was seized. If upon the hearing, the evidence warrants, or, if no person appears as a claimant, the Tribal Council shall thereupon enter a judgment of forfeiture, and all such contraband shall become the property of the Craig Tribal Association. If upon the hearing the evidence does not warrant forfeiture, the seized property shall be immediately returned to the owner. The judgment of the Tribal Council shall be final and non·appealable.

Article VII. Nuisances

Section 7.1. Nuisance

Under a determination by the Tribal Council that any such place or activity is a nuisance under any provision of this Ordinance, the Tribal Council may impose injunctive relief which may include a closure of any business or other use of the property for up to one (1) year from the date of the such injunctive relief.

Arcticle VIII. Revenue and Reporting

Section 8.1. Use and Appropriation of Revenue Received

All fees, taxes, payments, fines, costs, assessment, and any other revenues collected by the Craig Tribal Association under this Ordinance, from whatever sources, shall be expended first for the administrative costs incurred in the administration and enforcement of this Ordinance. Any excess funds shall be subject to and available for appropriation by the Tribal Council to the Tribe for essential governmental services.

Section 8.2. Audit

The Craig Tribal Association and its handling of all funds collected under this Ordinance is subject to review and Audit as part of the annual financial audit of the Tribe.

Section 8.3. Reports

Reports shall be submitted to the Tribal Council consisting of: quarterly reports and an accounting of all fees, taxes, payments, fines, costs, assessments, and all other revenues collected and expended pursuant to this Ordinance.

Article IX. Miscellaneous

Section 9.1. Severability

If any provision or application of this Ordinance is found invalid and or unenforceable by a court of competent jurisdiction, such determination shall not be held to render ineffectual any of the remaining provisions or applications of this Ordinance not specifically identified thereby, or to render such provisions to be inapplicable to other persons or circumstances.

Section 9.2. Construction

Nothing in this Ordinance shall be construed to diminish or impair in any way the rights or sovereign powers of the Craig Tribal Association.

Section 9.3. Effective Date

This Ordinance shall be effective after the Secretary of the Interior certifies the Ordinance and on the date it is published in the Federal Register.

Section 9.4. Prior Law Repealed

Any and all prior enactments of the Craig Tribal Association that are inconsistent with the provisions of this Ordinance are hereby rescinded.

Section 9.5. Amendment

Amendments must be approved and published in the Federal Register. The effective date of an amendment is 30 days after publication.

Section 9.6. Sovereign Immunity

The Sovereign Immunity of the Craig Tribal Association shall not be waived by this Ordinance.

[FR Doc. 2018-19731 Filed 9-10-18; 8:45 am]

BILLING CODE 4337-15-P